INTERNATIONAL TRADE COMMISSION

[Inv. No. 337-TA-470]

Certain Semiconductor Memory Devices and Products Containing Same; Notice of Commission Decision Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) terminating the above-captioned investigation in its entirety on the basis of a settlement agreement.

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: On May 9, 2002, the Commission instituted this investigation based on a complaint filed by Mosel Vitelic Inc. of Hsinchu, Taiwan and Mosel Vitelic Corp. of San Jose, CA (collectively,'complainants”) against Hitachi, Ltd. of Tokyo, Japan; Hitachi Semiconductor (America) Inc. of San Jose, CA; Elpida Memory, Inc. of Tokyo, Japan; and Elpida Memory (USA) Inc. of Santa Clara, CA (collectively, “respondents”). The complaint alleged violations of section 337 of the Tariff Act of 1930 in the importation into the United States, the sale for importation, or the sale after importation of certain semiconductor memory devices or products containing same by reason of infringement of certain claims of U.S. Letters Patent 5,452,261; 5,412,257; and 5,917,214. 67 FR 31369 (2002).

On September 10, 2002, complainants and respondents filed a joint motion to terminate the investigation based on a settlement agreement and to amend the ALJ's protective order. On September 20, 2002, the Commission investigative attorney filed a response supporting the joint motion. On October 18, 2002, the ALJ issued an ID (Order No. 6) granting the joint motion to terminate. No petitions for review of the ID were filed.

The authority for the Commission's determination is contained in section 337 of the Tariff Act of 1930, as amended (19 U.S.C. 1337), and in § 210.42 of the Commission's rules of practice and procedure (19 CFR 210.42).

By order of the Commission.
Issued: November 15, 2002.
Marilyn R. Abbott,
Secretary.

[FR Doc. 02-29568 Filed 11-20-02; 8:45 am]

BILLING CODE 7020-02-P